DEPARTMENT OF COMMERCE

International Trade Administration

[A-570-898]

Chlorinated Isocyanurates From the People's Republic of China: Final Results of Antidumping Duty Administrative Review; 2016-2017

AGENCY: Enforcement and Compliance, International Trade Administration, Department of Commerce.

SUMMARY: The Department of Commerce (Commerce) finds that certain companies covered by this administrative review made sales of chlorinated isocyanurates from the People's Republic of China (China) at less than normal value during the period of review (POR) June 1, 2016, through May 31, 2017.

DATES: Applicable February 20, 2019.

FOR FURTHER INFORMATION CONTACT: Sean Carey, AD/CVD Operations, Office VII, Enforcement and Compliance, International Trade Administration, U.S. Department of Commerce, 1401 Constitution Avenue NW, Washington, DC 20230; telephone: (202) 482-3964.

Background

This administrative review covers three producers/exporters: (1) Heze Huayi Chemical Co. Ltd. (Heze Huayi); (2) Hebei Jiheng Chemical Co. Ltd. (Jiheng); and (3) Juancheng Kangtai Chemical Co. Ltd. (Kangtai). We determine that Heze Huayi and Kangtai have demonstrated their eligibility for a separate rate, and have made sales in the United States at prices below normal value (NV). With respect to Jiheng, we continue to treat this company as part of the China-wide entity, because it did not participate in this administrative review and failed to respond to our questionnaires.

On July 10, 2018, the Department of Commerce (Commerce) published its Preliminary Results of the administrative review of the antidumping duty order on chlorinated isocyanurates from the People's Republic of China (China).¹ We invited parties to comment on our Preliminary Results. On August 16, 2018, the petitioners, Bio-lab, Inc., Clearon Corp., and Occidental Chemical Corp. (collectively, the petitioners) and the respondents, Heze Huayi and Kangtai (collectively, the respondents), submitted case briefs.² On August 21, 2018, the petitioners and the respondents submitted rebuttal briefs.³

¹ See Chlorinated Isocyanurates from the People's Republic of China: Preliminary Results of Antidumping Duty Administrative Review; 2016-2017, 83 FR 31953 (July 10, 2018) (Preliminary Results), and accompanying Preliminary Decision Memorandum.

² See “Case Brief of Bio-lab, Inc., Clearon Corp. and Occidental Chemical Corporation,” dated August 16, 2018 (Petitioners' Case Brief); and, “Chlorinated Isocyanurates from the People's Republic of China: Case Brief,” dated August 16, 2018 (Respondents' Case Brief).

³ See “Rebuttal Brief of Biolab, Inc., Clearon Corp. and Occidental Chemical Corporation,” dated August 21, 2018 (Petitioners' Rebuttal Brief); and, “Chlorinated Isocyanurates from the People's Republic of China: Rebuttal Brief,” dated August 21, 2018 (Respondents' Rebuttal Brief).

On October 30, 2018, Commerce fully extended the deadline for the final results until January 4, 2019.⁴ Commerce exercised its discretion to toll all deadlines affected by the partial federal government closure from December 22, 2018, through the resumption of operations on January 29, 2019.⁵ This extended the deadline for the final results to February 13, 2019.

⁴ See Memorandum to James Maeder, Associate Deputy Assistant Secretary for Antidumping and Countervailing Duty Operations, “Chlorinated Isocyanurates from the People's Republic of China: Extension of Deadline for Final Results of Antidumping Duty Administrative Review,” (October 30, 2018).

⁵ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The products covered by the order are chloro isos, which are derivatives of cyanuric acid, described as chlorinated s-triazine triones. Chlorinated isos are currently classifiable under subheadings 2933.69.6015, 2933.69.6021, 2933.69.6050, 3808.40.50, 3808.50.40 and 3808.94.5000 of the Harmonized Tariff Schedule of the United States. Although the HTSUS subheadings are provided for convenience and customs purposes, the written description of merchandise subject to the scope is dispositive. For a full description of the scope of the order, see Issues and Decision Memorandum.⁶

⁶ See Memorandum to Gary Taverman, Deputy Assistant Secretary for Antidumping and Countervailing Duty Operations, performing the non-exclusive functions and duties of the Assistant Secretary for Enforcement and Compliance, “Issues and Decision Memorandum for the Final Results of Antidumping Duty Administrative Review: Chlorinated Isocyanurates from China; 2016-2017,” issued concurrently with this notice for a complete description of the scope of the Order.

Separate Rates

In the Preliminary Results, we found that evidence provided by Heze Huayi and Kangtai supported finding an absence of both de jure and de facto government control, and, therefore, we preliminarily granted a separate rate to each of these companies.⁷ We received no information since the issuance of the Preliminary Results that provides a basis for reconsidering these determinations with respect to Heze Huayi and Kangtai. Therefore, for the final results, we continue to find that Heze Huayi and Kangtai are eligible for separate rates. Because Jiheng failed to respond to Commerce's questionnaires, we continue to determine for these final results that Jiheng is part of the China-wide entity.⁸

⁷ See Preliminary Results, and accompanying Preliminary Decision Memorandum, at 3-5.

⁸ Because no interested party requested a review of the China-wide entity and Commerce no longer considers the China-wide entity as an exporter conditionally subject to administrative reviews, we did not conduct a review of the China-wide entity. Thus, the rate for the China-wide entity is not subject to change as a result of this review. See Antidumping Proceedings: Announcement of Change in Department Practice for Respondent Selection in Antidumping Duty Proceedings and Conditional Review of the Nonmarket Economy Entity in NME Antidumping Duty Proceedings, 78 FR 65963, 65969-70 (November 4, 2013).

Analysis of Comments Received

All issues raised in the case and rebuttal briefs filed by parties in this review are addressed in the Issues and Decision Memorandum, which is hereby adopted by this notice. A list of the issues that parties raised and to which we responded in the Issues and Decision Memorandum follows as an appendix to this notice. The Issues and Decision Memorandum is a public document and is on file electronically via Enforcement and Compliance's Antidumping and Countervailing Duty Centralized Electronic Service System (ACCESS). ACCESS is available to registered users at https://access.trade.gov and to all parties in the Central Records Unit, Room B8024 of the main Department of Commerce building. In addition, a complete version of the Issues and Decision Memorandum can be accessed directly on the internet at http://enforcement.trade.gov/frn/index.html. The signed Issues and Decision Memorandum and electronic versions of the Issues and Decision Memorandum are identical in content.

Changes Since the Preliminary Results

Based on a review of the record and comments received from interested parties regarding our Preliminary Results, we made one change to our margin calculations to correct the calculation of Heze Huayi's and Kangtai's value-added taxes. The final dumping margins for this review are listed below.

Final Results of Administrative Review

As explained above, we find Jiheng to be part of the China-wide entity. The rate previously established for the China-wide entity is 285.63 percent.⁹ The weighted-average dumping margins for Heze Huayi and Kangtai in the instant administrative review are as follows:

⁹ For an explanation on the derivation of the China-wide rate, see Notice of Final Determination of Sales at Less Than Fair Value: Chlorinated Isocyanurates from the People's Republic of China, 70 FR 24502, 24505 (May 10, 2005).

Exporter | Weight- average dumping margin percentage
Heze Huayi Chemical Co., Ltd | 33.63
Juancheng Kangtai Chemical Co., Ltd | 40.28

Assessment Rates

Pursuant to section 751(a)(2)(A) of the Tariff Act of 1930, as amended (the Act), and 19 CFR 351.212(b), Commerce has determined, and U.S. Customs and Border Protection (CBP) shall assess, antidumping duties on all appropriate entries of subject merchandise in accordance with the final results of this review. Commerce intends to issue appropriate assessment instructions directly to CBP 15 days after publication of the final results of this administrative review.

Where the respondent reported reliable entered values, we calculated importer- (or customer-) specific ad valorem rates by aggregating the dumping margins calculated for all U.S. sales to each importer (or customer) and dividing this amount by the total entered value of the sales to each importer (or customer).¹⁰ Where Commerce calculated a weighted-average dumping margin by dividing the total amount of dumping for reviewed sales to that party by the total sales quantity associated with those transactions, Commerce will direct CBP to assess importer-specific assessment rates based on the resulting per-unit rates.¹¹ Where an importer- (or customer-) specific ad valorem or per-unit rate is greater than de minimis (i.e., 0.50 percent), Commerce will instruct CBP to collect the appropriate duties at the time of liquidation.¹² Where an importer- (or customer-) specific ad valorem or per-unit rate is zero or de minimis, Commerce will instruct CBP to liquidate appropriate entries without regard to antidumping duties.¹³

¹⁰ See 19 CFR 351.212(b)(1).

¹¹ Id.

¹² Id.

¹³ See 19 CFR 351.106(c)(2).

Pursuant to Commerce's assessment practice, for entries that were not reported in the U.S. sales databases submitted by companies individually examined during this review, Commerce will instruct CBP to liquidate such entries at the China-wide entity rate. Additionally, if Commerce determines that an exporter had no shipments of the subject merchandise, any suspended entries that entered under that exporter's case number (i.e., at that exporter's rate) will be liquidated at the China-wide entity rate.¹⁴

¹⁴ See Non-Market Economy Antidumping Proceedings: Assessment of Antidumping Duties, 76 FR 65694 (October 24, 2011).

Cash Deposit Requirements

The following cash deposit requirements will be effective upon publication of the final results of this administrative review for shipments of the subject merchandise from China entered, or withdrawn from warehouse, for consumption on or after the publication date, as provided by section 751(a)(2)(C) of the Act: (1) For the exporters listed above, the cash deposit rate will be the rate established in the final results of this review (except, if the rate is zero or de minimis, a zero cash deposit rate will be required for that company); (2) for previously investigated or reviewed China and non-China exporters not listed above that have separate rates, the cash deposit rate will continue to be the existing producer/exporter-specific rate published for the most recent period; (3) for all China exporters of subject merchandise that have not been found to be eligible for a separate rate, the cash deposit rate will be the China-wide rate of 285.63 percent; and (4) for all non-China exporters of subject merchandise that have not received their own rate, the cash deposit rate will be the rate applicable to the China exporter(s) that supplied that non-China exporter. These deposit requirements, when imposed, shall remain in effect until further notice.

Disclosure

We intend to disclose the calculations performed regarding these final results within five days of the date of publication of this notice to parties in this proceeding in accordance with 19 CFR 351.224(b).

Notification to Importers

This notice serves as a final reminder to importers of their responsibility under 19 CFR 351.402(f) to file a certificate regarding the reimbursement of antidumping duties prior to liquidation of the relevant entries during this POR. Failure to comply with this requirement could result in Commerce's presumption that reimbursement of antidumping duties has occurred and that subsequent assessment of doubled antidumping duties.

Administrative Protective Orders

This notice also serves as the only reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review in accordance with sections 751(a)(1) and 777(i)(1) of the Act, and 19 CFR 351.213(h).

Dated: February 12, 2019.
Christian Marsh,
Deputy Assistant Secretary for Enforcement and Compliance.

Appendix

List of Topics Discussed in the Issues and Decision Memorandum

Summary

Background

Scope of the Order

Discussion of the Issues

Comment 1: Selection of the Primary Surrogate Country

Comment 2: Whether To Use the EMIM Mexican Labor Data Instead of ILO Mexican Labor Rate

Comment 3: Selection of Mexican Surrogate Value Record Over the Brazilian and Bulgarian Surrogate Value Record

A. Financial Statements

B. Surrogate Value for Sodium Hydroxide (Caustic Soda)

C. Other Bulgarian Surrogate Values

D. Other Brazilian Surrogate Values

Comment 4: Adjustment to Export Price for Free-of-Charge Packing Materials

Comment 5: Calculation of Value-Added Tax (VAT) Expenses

Comment 6: Assigning the NME-Entity Rate to Jiheng

Recommendation

[FR Doc. 2019-02782 Filed 2-19-19; 8:45 am]

BILLING CODE 3510-DS-P